DEPARTMENT OF ENERGY

Federal Energy Regulatory Commission

[Docket No. RP03-162-000]

Trailblazer Pipeline Company; Notice of Technical Conference

January 13, 2003.

In the Commission's order issued on December 31, 2002,¹ the Commission directed that a technical conference be held to address certain issues, as set forth in the Commission's order.

¹ Trailblazer Pipeline Company, 101 FERC ¶ 61,405 (2002).

Take notice that the technical conference will be held on Thursday, February 6, 2003, at 10:30 a.m., in a room to be designated at the offices of the Federal Energy Regulatory Commission, 888 First Street, NE., Washington, DC 20426.

All interested parties and Staff are permitted to attend.

Magalie R. Salas,
Secretary.

[FR Doc. 03-1172 Filed 1-16-03; 8:45 am]

BILLING CODE 6717-01-P